DEPARTMENT OF COMMERCE

National Oceanic and Atmospheric Administration

15 CFR Part 950

[Docket No: 181108999-9149-02]

RIN 0648-BI60

Schedule of Fees for Access to NOAA Environmental Data, Information, and Related Products and Services; Correction

AGENCY: National Environmental Satellite, Data and Information Service (NESDIS), National Oceanic and Atmospheric Administration (NOAA), Department of Commerce.

ACTION: Correcting amendment.

SUMMARY: NESDIS published a document in the Federal Register on February 11, 2019, establishing a new schedule of fees for special access to NOAA data, information, and related products and services. Several entries in the table of fees were inadvertently transcribed incorrectly, and this rule is necessary to correct those errors. This will avoid confusion among regulated entities and allow NESDIS to charge fees, where appropriate, consistent with its statutory authority to accurately reflect the cost of providing access to certain environmental information, information, and related products and services.

DATES: This correction is effective March 27, 2019.

FOR FURTHER INFORMATION CONTACT: Mahendra Shrestha, (301) 713-7063.

SUPPLEMENTARY INFORMATION: NESDIS published a final rule (84 FR 3101; February 11, 2019) to establish a new schedule of fees for special access to NOAA data, information and related products and services. As explained in greater detail in the original final rule, NOAA continues to make its environmental data available to the public without any fee in most instances, primarily via NOAA's Comprehensive Large Array-Data Stewardship System (CLASS). NESDIS is revising the fee schedule that has been in effect since 2015 to ensure that the fees accurately reflect the costs of providing access to the environmental data, information, and related products and services. NESDIS is authorized under 15 U.S.C. 1534 to assess fees, up to fair market value, depending upon the user and intended use, for access to environmental data, information, and products derived from, collected, and/or archived by NOAA. The changes to the table are minimal and within the scope of our statutory authority and the public's reasonable expectations.

Need for Correction

In the Federal Register of February 11, 2019, (84 CFR 3101) NESDIS included a table, Appendix A to Part 950—Schedule of User Fees for Access to NOAA Environmental Data on page 3102. That table included several entries of services that NESDIS no longer provides.

Classification

This rule has been determined to be not significant for purposes of E.O. 12866. The provisions of the Administrative Procedure Act (5 U.S.C. 553) requiring notice of proposed rulemaking and the opportunity for public participation are inapplicable because this rule falls within the public property exception of subparagraph (a)(2) of section 553, as it relates only to the assessment of fees, as authorized by 15 U.S.C. 1534. Further, no other law requires that a notice of proposed rulemaking and an opportunity for public comment be given for this rule. Because a notice of proposed rulemaking and an opportunity for public comment are not required to be given for this rule under 5 U.S.C. 553 or by any other law, the requirements of the Regulatory Flexibility Act (5 U.S.C. 601 et seq.) are not applicable. Accordingly, no Regulatory Flexibility Analysis is required and none has been prepared.

List of Subjects in 15 CFR Part 950

Organization and functions (Government agencies).

Dated: March 8, 2019.
Cherish Johnson,
Chief Financial Officer (CFO/CAO), National Environmental, Satellite and Data Information Service.

For the reasons set forth above, 15 CFR part 950 is amended as follows:

PART 950—ENVIRONMENTAL DATA AND INFORMATION

1. The authority citation for part 950 continues to read as follows:

Authority: 15 U.S.C. 1534.

2. Revise Appendix A to part 950—Schedule of User Fees for Access to NOAA Environmental Data to read as follows:

Appendix A to Part 950—Schedule of User Fees for Access to NOAA Environmental Data
Name of product/data/publication/information/service: NOAA National Center for Environmental Information | Current fee ($) | New fee ($)
Department of Commerce Certification | 116.00 | 119.00
General Certification | 92.00 | 103.00
Paper Copy | 3.00 | 8.00
Data Poster | 18.00 | 17.00
Shipping Service | 8.00 | 8.00
Rush order fee | 60.00 | 63.00
Super Rush Order Fee | 100.00 | 105.00
Foreign Handling Fee | 43.00 | 45.00
NEXRAD Doppler radar Color Prints | 21.00 | 22.00
Paper Copy from Electronic Media | 8.00 | 8.00
Offline In-Situ Digital Data | 175.00 | 127.00
Microfilm Copy (roll to paper) per frame from existing film | 20.00 | 20.00
Satellite Image Product | 92.00 | 61.00
Offline Satellite, Radar, and Model Digital Data (average unit size is 1 terabyte) | 753.00 | 388.00
Conventional CD-ROM/DVD | 110.00 | 79.00
Specialized CD-ROM/DVD | 208.00 | 175.00
CD-ROM/DVD Copy, Offline | 43.00 | 62.00
CD-ROM/DVD Copy, Online Store | 16.00 | 28.00
Facsimile Service | 89.00 | 89.00
Order Handling | 11.00 | 20.00
Non-Digital Order Consultation | 10.00 | 9.00
Digital Order Consultation | 28.00 | 26.00
Non-Serial Publications | 32.00 | *
Non-Standard Data; Select/Copy to CD, DVD or Electronic Transfer, Specialized, Offline | 77.00 | *
Digital and Non-Digital Off-the-Shelf Products, Online | 13.00 | *
Digital and Non-Digital Off-the-Shelf Products, Offline | 17.00 | *
Order Consultation Fee | 4.00 | *
Handling and Packing Fee | 12.00 | *
Mini Poster | 2.00 | *
Icosahedron Globe | 1.00 | *
Convert Data to Standard Image | 8.00 | *
Single Orbit OLS & Subset | 19.00 | 20.00
Single Orbit OLS & Subset, Additional Orbits | 6.00 | 6.00
Geolocated Data | 50.00 | *
Subset of Pre-existing Geolocated Data | 32.00 | *
Global Nighttime Lights Annual Composite from One Satellite | 74,032.00 | *
Daily or Nightly Global Mosaics (visible & thermal band, single spectral band or environmental data) | 332.00 | *
Global Nighttime Lights Monthly Composite—one satellite | 8,259.00 | 8,705.00
Research Data Series CD-ROM/DVD | 25.00 | 25.00
NOS Bathymetric Maps and Miscellaneous Archived Publication Inventory | 8.00 | *
Global Annual Composite of Nighttime Lights in Monthly Increments From One Satellite | 10,794.00 | *
High Definition Geomagnetic Model | 20,262.00 | 22,540.00
High Definition Geomagnetic Model—Real Time (HDGM-RT) | 26,204.00 | 29,059.00
Provision of Global Nighttime VIIRS day/night band data in geotiff Format | 55,727.00 | 56,130.00
Provision of Global Nighttime VIIRS day/night band data in HDF5 Format | 27,888.00 | 29,975.00
Provision of regional data from the VIIRS instrument on a daily basis | 14,306.00 | 14,720.00
* Indicates a product no longer offered.

[FR Doc. 2019-05765 Filed 3-26-19; 8:45 am]

BILLING CODE 3510-HR-P